OFFICE OF PERSONNEL MANAGEMENT

Submission for Review: 3206-0136, Designation of Beneficiary: Federal Employees' Group Life Insurance, Standard Form 2823

AGENCY: U.S. Office of Personnel Management.

ACTION: 60-Day notice and request for comments.

SUMMARY: Office of Personnel Management (OPM), Healthcare and Insurance, Federal Employee Insurance Operations offers the general public and other Federal agencies the opportunity to comment on the reinstatement of an expired information collection request (ICR) without change, Designation of Beneficiary: Federal Employees' Group Life Insurance, Standard Form 2823. OPM is requesting approval that this form be designated as a “Common Form”.

DATES: Comments are encouraged and will be accepted until March 18, 2024.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or sent by email to Cyrus.Benson@opm.gov or faxed to (202) 606-0910 or reached via telephone at (202) 936-0401.

SUPPLEMENTARY INFORMATION: As required by the Paperwork Reduction Act of 1995 (Pub. L. 104-13, 44 U.S.C. chapter 35) as amended by the Clinger-Cohen Act (Pub. L. 104-106), OPM is soliciting comments for this collection (OMB No. 3206-0136). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Federal Employees' Group Life Insurance (FEGLI) Program established pursuant to 5 U.S.C. 8701 et seq, provides eligible Federal employees and annuitants with the ability to enroll in life insurance coverage under one or more policies issued to the Government by one or more life insurance companies. MetLife is the life insurance company that has issued the policy, and MetLife's Office of Federal Employees' Group Life Insurance insures and administers claims under its contract with OPM.

Title 5, United States Code, section 8705, provides that employees and annuitants enrolled in the FEGLI Program may designate beneficiaries to receive monies payable under the FEGLI Program after the death of the enrollee. The law also provides that if the enrollee doesn't designate a beneficiary, the monies will be paid according to the order of precedence listed in section 8705(a) of the law. Title 5, Code of Federal Regulations, section 870.802, gives further details on the requirements for a designation of beneficiary. Section 870.909 provides that an assignee can also use the form to designate beneficiaries. (An assignee is someone who owns and controls the insured's insurance.)

Standard Form 2823 is used by any Federal employee or annuitant enrolled in the FEGLI Program, or an assignee who owns an insured's insurance, to instruct the Office of Federal Employees' Group Life Insurance how to distribute the proceeds of the FEGLI coverage when the statutory order of precedence does not meet their needs.

OPM is requesting approval for this form to be designated as a “common form” to allow agencies to use the form for the same purpose.

Analysis

Agency: Office of Personnel Management, Healthcare and Insurance, Federal Employee Insurance Operations.

Title: Designation of Beneficiary: Federal Employees' Group Life Insurance.

OMB Number: 3206-0136.

Frequency: On occasion.

Affected Public: Individuals or Households.

Number of Respondents: 48,000.

Estimated Time per Respondent: 15 minutes.

Total Burden Hours: 12,000.

U.S. Office of Personnel Management.
Stephen Hickman,
Federal Register Liaison.

[FR Doc. 2024-00828 Filed 1-17-24; 8:45 am]

BILLING CODE 6325-38-P